DEPARTMENT OF HEALTH AND HUMAN SERVICES

National Institutes of Health

National Institute of Nursing Research; Amended Notice of Meeting

Notice is hereby given of a change in the meeting of the National Institute of Nursing Research Special Emphasis Panel, April 1, 2003, 10 a.m. to April 1, 2003, 1 p.m., National Institute of Nursing Research, 6701 Democracy Plaza, Room 710, Bethesda, MD, 20817 which was published in the Federal Register on March 28, 2003, FR 68,15212.

The meeting will be held on May 1, 2003 at 3 p.m. The meeting is closed to the public.

Dated: April 28, 2003.
LaVerne Y. Stringfield,
Director, Office of Federal Advisory Committee Policy.

[FR Doc. 03-11069 Filed 5-5-03; 8:45 am]

BILLING CODE 4140-01-M